DEPARTMENT OF TRANSPORTATION

Federal Aviation Administration

14 CFR Part 71

[Airspace Docket No. 00-ACE-14]

Amendment to Class E Airspace; Pratt, KS; Correction

AGENCY: Federal Aviation Administration, DOT.

ACTION: Direct final rule; confirmation of effective date and correction.

SUMMARY: This document confirms the effective date of a direct final rule which revises the Class E airspace at Pratt, KS, and corrects an error in the airport name of the Pratt Municipal Airport as published in the Federal Register June 22, 2000 (65 FR 38721), Airspace Docket No. 00-ACE-14.

DATES: The direct final rule published at 65 FR 38721 is effective on 0901 UTC, October 5, 2000.

This correction is effective on October 5, 2000.

FOR FURTHER INFORMATION CONTACT: Kathy Randolph, Air Traffic Division, Airspace Branch, ACE-520C, DOT Regional Headquarters Building, Federal Aviation Administration, 901 Locust, Kansas City, MO 64106; telephone: (816) 329-2525.

SUPPLEMENTARY INFORMATION:

History

On June 22, 2000, the FAA published in the Federal Register a direct final rule; request for comments which revises the Class E airspace at Pratt, KS, (FR document 00-15534, 65 FR 38721, Airspace Docket No. 00-ACE-14). An error was subsequently discovered in the airport name of the Pratt Municipal Airport. This action corrects that error. After careful review of all available information related to the subject presented above, the FAA has determined that air safety and the public interest require adoption of the rule. The FAA has determined that this correction will not change the meaning of the action or add any additional burden on the public beyond that already published. This action corrects the error in the name of the Pratt Municipal airport and confirms the effective date to the direct final rule.

The FAA uses the direct final rulemaking procedure for a non-controversial rule where the FAA believes that there will be no adverse public comment. This direct final rule advised the public that no adverse comments were anticipated, and that unless a written adverse comment, or a written notice of intent to submit such an adverse comment, were received within the comment period, the regulation would become effective on October 5, 2000. No adverse comments were received, and thus this notice confirms that this direct final rule will be effective on that date.

Correction to the Direct final rule

Accordingly, pursuant to the authority delegated to me, the name of the Pratt Municipal Airport as published in the Federal Register on June 22, 2000 (65 FR 38721), Federal Register Document 00-15534; page 38722, column one) is corrected as follows:

§ 71.1 [Corrected]

On page 38722, in the first column, in the text header, correct the name of the Pratt Municipal Airport, KS, by removing Pratt Municipal Airport, KS, and substituting Pratt Industrial Airport, KS.

Issued in Kansas City, MO on August 17, 2000.
Herman J. Lyons, Jr.,
Manager, Air Traffic Division, Central Region.

[FR Doc. 00-22039 Filed 8-28-00; 8:45 am]

BILLING CODE 4910-13-M